DEPARTMENT OF TRANSPORTATION

Coast Guard

[USCG-1999-6441]

Proposed Acquisition of 87-Foot Coastal Patrol Boats: Draft Programmatic Environmental Assessment

AGENCY: Coast Guard, DOT.

ACTION: Notice of availability and request for public comments.

SUMMARY: The Coast Guard announces the availability of a draft Programmatic Environmental Assessment on its proposal to replace its aging fleet of 82-foot patrol boats with 87-foot coastal patrol boats. We request your comments on the Assessment.

DATES: Comments and related material must reach the Docket Management Facility on or before March 25, 2000.

ADDRESSES: To make sure your comments and related material are not entered more than once in the docket, please submit them by only one of the following means:

(1) By mail to the Docket Management Facility, (USCG-1999-6441), U.S. Department of Transportation, room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this notice. Comments and material received from the public, as well as the draft Programmatic Environmental Assessment (PEA), will become part of this docket and will be available for inspection or copying at room PL-401 on the Plaza level of the Nassif Building at the same address between 9 a.m. and 5 p.m., Monday through Friday, except Federal holidays. You may also find this docket, including the PEA, on the Internet at http://dms.dot.gov.

FOR FURTHER INFORMATION CONTACT: For questions on this notice, the proposed project, or the associated PEA, call Ms. Sheri Imel, Coast Guard, telephone 757-628-4248. For questions on viewing or submitting material to the docket, call Dorothy Walker, Chief, Dockets, Department of Transportation, telephone 202-366-9329.

SUPPLEMENTARY INFORMATION:

Request for Comments

We encourage you to submit comments and related material on the draft Programmatic Environmental Assessment (PEA). If you do so, please include your name and address, identify the docket number for this notice (USCG-1999-6441) and give the reasons for each comment. You may submit your comments and material by mail, hand delivery, fax, or electronic means to the Docket Management Facility at the address under ADDRESSES; but please submit your comments and material by only one means. If you submit them by mail or hand delivery, submit them in an unbound format, no larger than 8½ by 11 inches, suitable for copying and electronic filing. If you submit them by mail and would like to know they reached the Facility, please enclose a stamped, self-addressed postcard or envelope. We will consider all comments and material received during the comment period.

Proposed Action

The Coast Guard proposes to buy forty-one 87-foot coastal patrol boats to replace its aging fleet of 82-foot patrol boats. The new boats would be similar to nine 87-foot prototypes currently in use by the Coast Guard. The new boats would be located at existing facilities throughout the continental United States. As with the 82-footers, the new boats would be used for search and rescue, maritime law enforcement, alien migrant interdiction, drug interdiction, marine environmental response, recreational and commercial boating safety, environmental law enforcement, port safety and security, and military operations support. The new boats are needed because the existing fleet of 82-footers, constructed between 1960 and 1970, are reaching the end of their life expectancy and are becoming increasingly difficult to repair. Without a working, dependable boat to carry out our primary missions, our ability to serve the public will be severely hampered. Also, we expect the demands of our missions to increase over the next few years. We expect to see an increase in law enforcement, drug interdiction, alien migrant interdiction, and marine environmental response. The proposed action would improve our current level of service and help us meet our increased needs in the near future.

Draft Programmatic Environmental Assessment

We have prepared a draft Programmatic Environmental Assessment (PEA). The draft PEA identifies and examines the reasonable alternatives and assesses their potential environmental impact. Our preferred alternative is to add forty-one new 87-footers to the nine 87-foot prototypes currently being used. The remaining 82-footers would be classified as excess.

We are requesting your comments on environmental concerns you may have related to the PEA. This includes suggesting analyses and methodologies for use in the PEA or possible sources of data or information not included in the PEA. Your comments will be considered in preparing the final PEA.

Dated: February 7, 2000.
D.W. Reed,
Capt. U.S.C.G., Deputy Assistant Commandant for Acquisition.

[FR Doc. 00-3304 Filed 2-11-00; 8:45 am]

BILLING CODE 4910-15-P